DEPARTMENT OF THE INTERIOR

Fish and Wildlife Service

[FWS-R5-R-2010-N103; 50133-1265-GSMP-S3]

Great Swamp National Wildlife Refuge, Morris County, NJ

AGENCY: Fish and Wildlife Service, Interior.

ACTION: Notice of intent to prepare a comprehensive conservation plan and environmental assessment; announcement of public scoping and request for comments.

SUMMARY: The U.S. Fish and Wildlife Service (Service) is gathering the information needed to prepare a comprehensive conservation plan (CCP) and associated environmental assessment (EA) for Great Swamp National Wildlife Refuge (NWR). We publish this notice in compliance with our policy of advising other agencies and the public of our intentions to conduct detailed planning on refuges and obtain suggestions and information about the scope of issues to consider in the planning process.

DATES: We will hold two public scoping open house meetings on July 28, 2010, at the Chatham Township meeting hall. The open houses will be held from 1 p.m. to 3:30 p.m. with a presentation by refuge staff at 1:30 p.m., and from 6 p.m. to 8:30 p.m. with a presentation at 6:30 p.m. The meetings will be announced through our Web site (http://www.fws.gov/northeast/planning) and a newsletter for our mailing list, and through personal contacts. See the Addresses section for information about where to submit your comments. To ensure our consideration of your written comments regarding the scope of the refuge management plan, you should submit them within 30 days of the publication of this notice.

ADDRESSES: Send your comments or requests for more information on the planning process by any of the following methods:

Electronic mail: northeastplanning@fws.gov. Include “Great Swamp NWR” in the subject line of the message.

Facsimile: Attention: Bill Perry, at 413-253-8468.

U.S. Mail: Bill Perry, Refuge Planner, U.S. Fish and Wildlife Service, 300 Westgate Center Drive, Hadley, MA 01035.

In Person Drop-off: You may drop off comments during regular business hours at the above address.

For additional questions about the planning process, you may contact Bill Perry via the above methods or 413-253-8688 (telephone).

FOR FURTHER INFORMATION CONTACT: To obtain more information on the refuge, contact William Koch, Refuge Manager, at Great Swamp NWR, 241 Pleasant Plains Road, Basking Ridge, NJ 07920; 973-425-1222 (telephone); or fw5rw_gsnwr@fws.gov (electronic mail); or go to http://www.fws.gov/northeast/greatswamp/.

SUPPLEMENTARY INFORMATION:

Introduction

This notice initiates the comprehensive conservation planning process for Great Swamp NWR, located in Basking Ridge, New Jersey.

Background

The CCP Process

The National Wildlife Refuge System Administration Act of 1966, as amended by the National Wildlife Refuge System Improvement Act of 1997 (16 U.S.C. 668dd-668ee), requires us to develop a CCP for each national wildlife refuge. The purpose of a CCP is to provide refuge managers with a 15-year plan for achieving refuge purposes and contributing to the mission of the National Wildlife Refuge System (NWRS), consistent with sound principles of fish and wildlife management, conservation, legal mandates, and Service policies. In addition to providing broad management direction on conserving wildlife and habitat, the plans identify wildlife-dependent recreational opportunities available to the public, including opportunities for hunting, fishing, wildlife observation and photography, and environmental education and interpretation. We will review and update the CCP at least every 15 years.

We establish each refuge for specific purposes, and use those purposes to develop and prioritize its management goals, objectives, and public uses. The planning process is one way for us and for the public to evaluate those goals and objectives for the best possible conservation of important wildlife habitat, while providing opportunities for wildlife-dependent recreation compatible with those purposes and the mission of the NWRS.

We request your input on all issues, concerns, ideas, improvements, and suggestions for the future management of Great Swamp NWR. In addition to this opportunity to participate in the scoping for the project, you may submit additional comments during the planning process by writing to the refuge planner (see ADDRESSES above).

We will conduct the environmental review of this project in accordance with the requirements of the National Environmental Policy Act of 1969 (NEPA), as amended (42 U.S.C. 4321 et seq.), the Council on Environmental Quality Regulations on NEPA (40 CFR parts 1500-1508), other appropriate Federal laws and regulations, and our policies and procedures for complying with them. All of the comments we receive on either our EAs or our environmental impact statements become part of the official public record. We will handle requests for those comments in accordance with the Freedom of Information Act, NEPA (40 CFR 1506.6(f)), and other policies and procedures of the Department of the Interior or the Service. When we receive such a request, we will provide comment letters with the names and addresses of the individuals who wrote them. However, to the extent permissible by law, we will not provide the telephone numbers of those individuals.

Great Swamp NWR

Great Swamp NWR currently includes 7,768 acres of marsh, swamp, grassland, shrubland, and forest habitats. The approved refuge acquisition boundary encompasses 9,090 acres in the Great Swamp Basin, located in Long Hill, Chatham, and Harding Townships, New Jersey. Great Swamp is situated within a 55-square-mile watershed comprised of portions of 10 municipalities in Morris and Somerset Counties. It is located in the headwaters of the Passaic River and is bordered on the west by the upper Passaic River. The Great Swamp receives drainage from 29.2 square miles of the watershed through the tributaries; Primrose, Great, Loantaka, and Black Brooks.

The 7,768-acre Great Swamp NWR was established in 1960, and includes 746 acres designated as a research natural area, and 3,660 acres federally designated as wilderness. In 1966, the refuge was designated as a registered National Natural Landmark. The refuge was established “* * * for use as an inviolate sanctuary, or for any other management purpose, for migratory birds” (Migratory Bird Conservation Act); for “* * * the conservation of the wetlands of the Nation in order to maintain the public benefits they provide and to help fulfill international obligations contained in various migratory bird treaties and conventions * * *” (Emergency Wetlands Resources Act of 1986); and is “* * * suitable for; (1) Incidental fish and wildlife-oriented recreational development; (2) the protection of natural resources; (3) the conservation of endangered species or threatened species * * *” (Refuge Recreation Act).

Great Swamp NWR acts as an island of wildlife habitat totally surrounded by suburban communities and encroaching urbanization. Great Swamp offers one of the last refuges for wildlife and wild habitats in northern New Jersey, and becomes increasingly important as surrounding natural areas are fragmented or developed. The refuge provides stopover habitat for waterfowl during spring and fall migrations, when peak numbers reach 10,000-15,000 birds, as well as foraging habitat for over 100 species of birds that breed on the refuge.

Maternity colonies of federally listed endangered Indiana bats are known to occur on the refuge. Reptile and amphibian species of conservation concern at Great Swamp NWR include the federally listed threatened bog turtle, State endangered blue-spotted salamander, State threatened wood turtle, spotted turtle, eastern box turtle, and Fowler's toad. Many State threatened and endangered bird species nest on the refuge, including the American bittern, bobolink, Cooper's hawk, Red-shouldered hawk, Barred owl, and Red-headed woodpecker. In total, over 600 plant, 224 bird, 38 mammal, 23 reptile, 38 fish, and 19 amphibian species have been identified and confirmed on the refuge.

The predominant public uses are wildlife observation and photography. There are 8.5 miles of walking trails and 1.5 miles of boardwalks, three observation blinds, and an auto tour route to facilitate those uses. Each November, hunters with permits may access portions of the refuge for a 4-day deer hunt, per State regulations.

Dated: June 4, 2010.
Wendi Weber,
Acting Regional Director, U.S. Fish and Wildlife Service, Hadley, Massachusetts.

[FR Doc. 2010-17444 Filed 7-16-10; 8:45 am]

BILLING CODE 4310-55-P